DEPARTMENT OF DEFENSE

Department of the Army

Privacy Act of 1974; System of Records

AGENCY: Department of the Army, DoD.

ACTION: Notice to Amend a System of Records.

SUMMARY: The Department of the Army is amending two systems of records notices in its existing inventory of record systems subject to the Privacy Act of 1974, (5 U.S.C. 552a), as amended.

DATES: This proposed action will be effective without further notice on July 3, 2000 unless comments are received which result in a contrary determination.

ADDRESSES: Privacy Act System Notice Manager, Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390.

SUPPLEMENTARY INFORMATION: The Department of the Army systems of records notices subject to the Privacy Act of 1974, (5 U.S.C. 552a), as amended, have been published in the Federal Register and are available from the address above.

The specific changes to the record systems being amended are set forth below followed by the notices, as amended, published in their entirety. The proposed amendments are not within the purview of subsection (r) of the Privacy Act of 1974, (5 U.S.C. 552a), as amended, which requires the submission of a new or altered system report.

Dated: May 24, 2000.
L.M. Bynum,
Alternate OSD Federal Register Liaison Officer, Department of Defense.

A0215-3 DAPE

System name:

NAF Personnel Records (January 20, 2000, 65 FR 3217).

Change:

System identifier

Delete entry and replace with ‘A0215-3 SAMR’.

* * * * *

A0215-3 SAMR

System name:

NAF Personnel Records.

System location:

Civilian Personnel Offices and at Army installations; National Personnel Records Center, (Civilian), 111 Winnebago Street, St. Louis, MO 63118-4199. Where duplicates of these records are stored in a manager' s employment file, e.g., an administrative office closer to where the employee actually works, this notice applies.

Categories of individuals covered by the system:

All individuals who have applied for employment with, are employed by, or were employed by nonappropriated fund (NAF) activities.

Categories of records in the system:

Applications for employment, documents relating to testings, ratings, qualifications, prior employment, appointment, suitability, security, retirement, group insurance, medical certificates; performance evaluations; job descriptions; training and career development records; awards and commendations data, tax withholding authorizations; documents relating to injury and death compensation, unemployment compensation, travel and transportation, Business Based Action (BBA), adverse actions, conflict-of-interest and/or conduct, and similar relevant matters.

Authority for maintenance of the system:

5 U.S.C. 301, Departmental Regulations; 10 U.S.C. 3013, Secretary of the Army; E.O. 9397 (SSN); and Army Regulation 215-3, Nonappropriated Funds and Related Activities Personnel Policies and Procedures.

Purpose(s):

These records are maintained to carry out a personnel management program for Department of the Army non-appropriated fund instrumentalities. Records are used to recruit, appoint, assign, pay, evaluate, recognize, discipline, train and develop, and separate individuals; to administer employee benefits; and to conduct labor-management relations, employee-management relations, and responsibilities inherent in managerial and supervisory functions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to appropriate Federal agencies, such as the Department of Labor and the Equal Employment Opportunity Commission, to resolve and/or adjudicate matters falling within their jurisdiction.

Records may also be disclosed to labor organizations in response to requests for names of employees and identifying information.

The ‘Blanket Routine Uses’ set forth at the beginning of the Army's compilation of systems of records notices also apply to this system.

Policies and practices for storing, retrieving, accessing, retaining, and disposing of records in the system:

Storage:

Paper records in file folders, kardex files, and electronic storage media.

Retrievability:

Paper records are retrieved by surname and electronic retrieval is both surname and Social security Number.

Safeguards:

Records are maintained in areas restricted to authorized persons having official need therefor; all information is regarded as if it were marked ‘For Official Use Only’.

Retention and disposal:

Records are permanent; after employee separates, records are retired to the National Personnel Records Center (Civilian), 111 Winnebago Street, St. Louis, MO 63118-4199 within 30 days. Copies of these records maintained in an administrative office or by the supervisor are retained until the employee transfers or separates; destroyed 30 days later.

System manager(s) and address:

Office of the Assistant Secretary of the Army, Manpower and Reserve Affairs, 200 Stovall Street, Alexandria, VA 22332-0300.

Notification procedure:

Individuals seeking to determine whether information about themselves is contained in this system should address written inquiries to the local Civilian Personnel Officer; former nonappropriated fund employees should write to the National Personnel Records Center (Civilian) 111 Winnebago Street, St. Louis, MO 63118-4199.

Individual should provide his/her full name, current address and telephone number, a specific description of the information/records sought, and any identifying numbers such as Social Security Number.

Record access procedures:

Individuals seeking access to information about themselves contained in this system should address written inquiries to the local Civilian Personnel Officer; former nonappropriated fund employees should write to the National Personnel Records Center (Civilian) 111 Winnebago Street, St. Louis, MO 63118-4199.

Individual should provide his/her full name, current address and telephone number, a specific description of the information/records sought, and any identifying numbers such as Social Security Number.

Contesting record procedures:

The Army’s rules for accessing records, and for contesting contents and appealing initial agency determinations are contained in Army Regulation 340-21; 32 CFR part 505; or may be obtained from the system manager.

Record source categories:

From the applicant; statements or correspondence from persons having knowledge of the individual; official records; actions affecting individual's employment and/or pay.

Exemptions claimed for the system:

None.

A0190-13 CFSC

System name:

Security Badge/Identification Card Files (February 22, 1993, 58 FR 10002).

Changes:

System identifier:

Delete entry and replace with ‘A0600-8-14 DAPE’.

System location:

Delete entry and replace with ‘Headquarters, Department of the Army, staff and field operating agencies, states’ adjutant general offices, and any Army installations/activities/offices world-wide that issue security badges and identification cards authorized by Army Regulations. Official mailing addresses are published as an appendix to the Army's compilation of systems of records notices.'

Categories of individuals covered by the system:

Add to entry ‘Individuals issued a security badge/identification card by the Department of the Army. These include, but are not limited to . . .’

Categories of records in the system:

Add Army Regulation 600-8-14, Identification Cards for Members of the Uniformed Services, Their Family Members, and Other Eligible Personnel.

* * * * *

A0600-8-14 DAPE

System name:

Security Badge/Identification Card Files.

System location:

Headquarters, Department of the Army, staff and field operating agencies, states' adjutant general offices, and any Army installations/activities/offices world-wide that issue security badges and identification cards authorized by Army Regulations. Official mailing addresses are published as an appendix to the Army's compilation of systems of records notices.

Categories of individuals covered by the system:

Individuals issued a security badge/identification card by the Department of the Army. These include, but are not limited to active duty, reserve, and retired military personnel and authorized dependents; Department of Defense civilians and their dependents; Embassy personnel and their dependents, Medal of Honor recipients; visitors authorized for official purposes, e.g., vendors, delivery men, utility and special equipment servicemen; accident investigators; contractor personnel and their authorized dependents; Red Cross personnel; and persons authorized by the Geneva Convention to accompany the Armed Forces.

Categories of records in the system:

Individual's application on appropriate Department of Army and Department of Defense forms specified by Army Regulation 600-8-14 (the original of which may be filed in the individual's personnel file) for identification and/or building security pass/badge issuance; individual's photograph, fingerprint record, special credentials, and allied papers; registers/logs reflecting sequential numbering of badges/cards.

Authority for maintenance of the system:

5 U.S.C. 301, Departmental Regulations; 10 U.S.C. 3013, Secretary of the Army; Army Regulation 190-13, The Army Physical Security Program; Army Regulation 600-8-14, Identification Cards for Members of the Uniformed Services, Their Family Members, and Other Eligible Personnel; and E.O. 9397 (SSN).

Purpose(s):

To provide a record of security badges and identification cards issued: to restrict entry into installations/activities; and to ensure positive identification of personnel authorized access to restricted areas. Registers/logs maintain accountability for issuance and disposition of badges and identification cards.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Use’ set forth at the beginning of the Army's compilation of systems of records notices also apply to this system.

Policies and practices for storing, retrieving, accessing, retaining, and disposing of records:

Storage:

Paper records in file folders; magnetic tapes; discs; cassettes; computer printouts; and microfiche.

Retrievability:

By individual's name, Social Security Number, card/badge number.

Safeguards:

Data are maintained in secure buildings and are accessed only by authorized personnel who are trained and cleared for access. Information in computer facilities is further protected by alarms and established procedures for the control of computer access.

Retention and disposal:

Applications for military identification cards are maintained by the issuing office for 1 year; those for civilian cards are retained 4 years, after which they are destroyed. Registers/logs are destroyed 3 years after last badge has been accounted for.

Limited area credentials are replaced after 3 years or when a total of 5 of the total have been lost or unaccounted for, whichever occurs earlier, exclusion area credentials are replaced at least once every 3 years; controlled area credentials are replaced at the discretion of the major commander.

System manager(s) and address:

Commander, U.S. Total Army Personnel Command, 200 Stovall Street, Alexandria, VA 22332-0400.

Notification procedure:

Individuals seeking to determine whether information about themselves is contained in this system should address written inquiries to the issuing office where the individual obtained the identification card or to the system manager.

Individual should provide the full name, number of the identification card, current address, and signature.

Record access procedures:

Individuals seeking access to records about themselves contained in this record system should address written inquiries to the issuing officer at the appropriate installation.

Individual should provide the full name, number of the identification card, current address, and signature.

Contesting record procedures:

The Army rules for accessing records, and for contesting contents and appealing initial agency determinations are contained in Army Regulation 340-21; 32 CFR part 505; or may be obtained from the system manager.

Record source categories:

From the individual; Army records and reports.

Exemptions claimed for the system:

None.

[FR Doc. 00-13524 Filed 5-31-00; 8:45 am]

BILLING CODE 5000-10-F